FEDERAL COMMUNICATIONS COMMISSION

Radio Broadcasting Services; AM or FM Proposals To Change the Community of License.

AGENCY: Federal Communications Commission.

ACTION: Notice.

SUMMARY: The following applicants filed AM or FM proposals to change the community of license: ADVANCE MINISTRIES, INC. D/B/A/NEW LIFE CHRISTIAN SCHOOL, Station NEW, Facility ID 177220, BMPED-20120906AAG, From COLORADO CITY, AZ, To GLENDALE, UT; BETTER PUBLIC BROADCASTING ASSOCIATION, Station KLXM, Facility ID 184961, BMPED-20120823AAP, From WEATHERFORD, OK, To ARAPAHO, OK; COMMUNITY RADIO PROJECT, Station KZET, Facility ID 173810, BPED-20120914AEF, From CORTEZ, CO, To TOWAOC, CO; ENTERTAINMENT MEDIA TRUST, DENNIS J. WATKINS, TRUSTEE, Station KQQZ, Facility ID 5281, BMP-20120628AAL, From DESOTO, MO, To FAIRVIEW HEIGHTS, IL; EPISCOPO, JOSEPH A, Station NEW, Facility ID 189518, BNPH-20110629BVH, From ROTAN, TX, To ROSCOE, TX; HI-LINE RADIO FELLOWSHIP, INC., Station KZNP, Facility ID 175929, BPED-20120924AAY, From PLAINS, MT, To MULLAN, ID; JEFF ANDRULONIS, Station WEAF, Facility ID 24146, BP-20120921AET, From ST. STEPHEN, SC, To SAINT STEPHEN, SC; OHANA BROADCAST COMPANY LLC, Station KSHK, Facility ID 62228, BPH-20120822AAH, From KEKAHA, HI, To HANAMAULU, HI; OHANA BROADCAST COMPANY LLC, Station KUAI, Facility ID 1752, BP-20120822AAO, From ELEELE, HI, To KEKAHA, HI; OHANA BROADCAST COMPANY LLC, Station KQNG, Facility ID 58938, BP-20120822AAP, From LIHUE, HI, To ELEELE, HI; ROY E. HENDERSON, Station KLTR, Facility ID 40775, PH-20120824AAB, From BRENHAM, TX, To HEMPSTEAD, TX; SMILE FM, Station WKKM, Facility ID 93344, BMPED-20120913ACB, From SPEAKER TWP., MI, To BURTCHVILLE TWP., MI; TRI-COUNTY RADIO, INCORPORATED, Station WEMP, Facility ID 85300, BMPH-20120828AFM, From TWO RIVERS, WI, To HOWARDS GROVE, WI.

DATES: The agency must receive comments on or before December 14, 2012.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-25193 Filed 10-12-12; 8:45 am]

BILLING CODE 6712-01-P